INTER-AMERICAN FOUNDATION

Sunshine Act Meeting

Agenda for Board of Directors' Meeting

October 14, 2005

8 a.m.-1:30 p.m.

The meeting will be held at the Inter-American Foundation, 901 N. Stuart Street, 10th Floor, Arlington, Virginia 22203.

The meeting will be open except for the portion specified as a closed session as provided in 22 CFR 1004.4(f).

8 a.m. Call to Order, Approval of the Minutes of the November 30, 2004 meeting.

8:15 a.m. Strategic Planning (Portions of this discussion will be closed to discuss personnel issues, as provided in 22 CFR 1004.4(f)).

12 p.m. Lunch.

12:30 p.m. President's Report and other business.

1:30 p.m. Adjournment.

Jocelyn Nieva,
Acting General Counsel.

[FR Doc. 05-19990 Filed 9-30-05; 2:21 pm]

BILLING CODE 7025-01-M